DEPARTMENT OF HEALTH AND HUMAN SERVICES

Centers for Disease Control and Prevention

UPDATE—Meeting of the Community Preventive Services Task Force (Task Force)

AGENCY: Centers for Disease Control and Prevention (CDC), Department of Health and Human Services (HHS).

ACTION: Update to notice of meeting.

SUMMARY: The Centers for Disease Control and Prevention (CDC) announces an update to the meeting of the Community Preventive Services Task Force (Task Force). The in-person Task Force meeting is being replaced by an abbreviated conference call as a result of the lapse in the FY 2014 appropriation, which limited CDC's ability to complete the necessary scientific and logistical support for the meeting. The Task Force is an independent, nonfederal, and uncompensated panel. Its members represent a broad range of research, practice, and policy expertise in prevention, wellness, health promotion, and public health, and are appointed by the CDC Director. The Task Force was convened in 1996 by the Department of Health and Human Services (HHS) to identify community preventive programs, services, and policies that increase healthy longevity, save lives and dollars and improve Americans' quality of life. CDC is mandated to provide ongoing administrative, research, and technical support for the operations of the Task Force. During its meetings, the Task Force considers the findings of systematic reviews on existing research, and issues recommendations. These recommendations provide evidence-based options from which decision makers in communities, companies, health departments, health plans and healthcare systems, non-governmental organizations, and at all levels of government can choose what best meets the needs, preferences, available resources, and constraints of their constituents. The Task Force's recommendations, along with the systematic reviews of the scientific evidence on which they are based, are compiled in the Guide to Community Preventive Services (Community Guide).

DATES: The meeting will be held by conference call on Wednesday, October 23, 2013, from 12 p.m. to 5:30 p.m. EDT.

Meeting Accessibility: This meeting is open to the public. If you RSVPed to the original notice by the requested date, October 9, 2013, additional information will be provided on how to access the meeting.

FOR FURTHER INFORMATION CONTACT: Andrea Baeder, The Community Guide Branch; Division of Epidemiology, Analysis, and Library Services; Center for Surveillance, Epidemiology and Laboratory Services; Office of Public Health Scientific Services, Centers for Disease Control and Prevention, 1600 Clifton Road, MS-E-69, Atlanta, GA 30333, phone: (404) 498-6876, email: CPSTF@cdc.gov.

SUPPLEMENTARY INFORMATION:

Purpose: The purpose of the meeting is for the Task Force to consider the findings of systematic reviews and issue findings and recommendations to help inform decision making about policy, practice, and research in a wide range of U.S. settings.

Matters to be discussed: motor vehicle-related injury prevention and health equity.

Dated: October 18, 2013.
Tanja Popovic,
Deputy Associate Director for Science, Centers for Disease Control and Prevention.

[FR Doc. 2013-24928 Filed 10-21-13; 11:15 am]

BILLING CODE 4163-18-P